DEPARTMENT OF EDUCATION

National Educational Research Policy and Priorities Board; Teleconference

AGENCY: National Educational Research Policy and Priorities Board, Education.

ACTION: Notice of executive committee meeting.

SUMMARY: This notice sets forth the schedule and proposed agenda of a forthcoming meeting of the Executive Committee of the National Educational Research Policy and Priorities Board. Notice of this meeting is required under section 10(a)(2) of the Federal Advisory Committee Act. This document is intended to notify the general public of their opportunity to attend the meeting. The public is being given less than 15 day notice of this meeting because of the need to expedite a decision and accommodate the travel schedules of the members.

DATE: January 4, 2001.

Time: 10-11 a.m., EST.

Location: Room 100, 80 F St., NW., Washington, DC 20208-7564.

FOR FURTHER INFORMATION CONTACT: Mary Grace Lucier, Designated Federal Official, National Educational Research Policy and Priorities Board, Washington, DC 20208-7564. Tel.: (202) 219-1628; e-mail: Mary_Grace_Lucier@ed.gov. The main telephone number for the Board is (202) 208-0692.

SUPPLEMENTARY INFORMATION: The National Educational Research Policy and Priorities Board is authorized by Section 921 of the Educational Research, Development, Dissemination, and Improvement Act of 1994. The Board works collaboratively with the Assistant Secretary for the Office of Educational Research and Improvement to forge a national consensus with respect to a long-term agenda for educational research, development, and dissmeinatrion, and to provide advice and assistance to the Assistant Secretary in administering the duties of the Office. The teleconference is open to the public. The Executive Committee will consider changes to its meeting schedule for the year and authorize a staff salary revision. Records are kept of all Board proceedings and are available for public inspection at the office of the National Educational Research Policy and Priorities Board, Suite 100, 80 F St., NW., Washington, DC 20208-7564.

Dated: December 21, 2000.
Rafael Valdivieso,
Executive Director.

[FR Doc. 00-32969 Filed 12-26-00; 8:45 am]

BILLING CODE 4000-01-M